DEPARTMENT OF THE INTERIOR

National Park Service

[N6767; NPS-WASO-NAGPRA-NPS0041530; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Jaquelin Padilla, Mississippi Department of Archives and History, Historic Preservation Division, 100 South State Street, P.O. Box 571, Jackson, MS 39205, email jpadilla@mdah.ms.gov.

SUPPLEMENTARY INFORMATION: This notice is published as part of the National Park Service's administrative responsibilities under NAGPRA. The determinations in this notice are the sole responsibility of the Mississippi Department of Archives and History, and additional information on the determinations in this notice, including the results of consultation, can be found in its inventory or related records. The National Park Service is not responsible for the determinations in this notice.

Abstract of Information Available

Based on the information available, in 2018, human remains from 22DS511 (Dogwood Ridge) were listed in a Notice of Inventory Completion, published in the Federal Register on April 13, 2018 (FR 2018-07699). In 2021, human remains and associated funerary objects from 22DS500 (Walls), 22DS501 (Lake Cormorant), 22DS504 (Harris), 22DS509 (Edgefield), 22DS511 (Dogwood Ridge), 22DS514 (Cheatham), 22DS516 (Irby), 22DS517 (Woodlyn), 22DS519 (Shannon #2), 22DS526 (Migva), 22DS506 (McKay's Store), 22DS500/504 (Walls/Harris), and 22DS000/D1979.07.01 (Harris Property) were listed in a Notice of Inventory Completion, published in the Federal Register on January 22 2021 (FR 2021-01340). The same year, human remains from 22DS501 (Lake Cormorant), 22DS512 (Shannon Mound), 22DS513 (Norfolk), and 22DE526/527 (22DS526/527) were listed in a Notice of Inventory Completion, published in the Federal Register on April 15, 2021 (FR 2021-07698). In 2022, human remains and associated funerary objects from 22DS500 (Walls), 22DS514 (Cheatham), and 22DS517 (Woodlyn) were listed in a Notice of Inventory Completion, published in the Federal Register on July 14, 2022 (FR 2022-15041). In 2023, human remains from MAGS Lot #26 (Old River Bank at Walls) and 22DS514 (Cheatham) were listed in a Notice of Inventory Completion, published in the Federal Register on March 29, 2023 (FR 2023-06475). These human remains and associated funerary objects were repatriated to The Chickasaw Nation. The current notice includes additional human remains and associated funerary objects not included in the previous repatriations by the Mississippi Department of Archives and History.

Human remains representing, at least, two individuals have been identified from 22DS500 (Walls). The 10 lots of associated funerary objects consist of one lot ceramics, one lot faunal remains, one lot lithics, one lot organic materials, one lot clay, one lot matrix, one lot petrified wood, one lot discoidal, one lot shell, and one lot wood. Two collections were removed from the site by Memphis State University in 1966 and 1975. Another collection was removed from the site between 1990-1991 by Memphis State University staff and volunteers. All three collections were housed at the C.H. Nash Museum at Chucalissa until they were transferred to the DeSoto County Museum between 2012-2015. These collections were transferred from the DeSoto County Museum to MDAH in 2019. MDAH also has a collection that was removed from the site by “Bradley,” who was associated with the University of Mississippi, a collection from a Howard Mize, and a collection with an unknown history.

Human remains representing, at least, 15 individuals have been identified from 22DS501 (Lake Cormorant). The nine lots of associated funerary objects consist of one lot faunal remains, one lot lithics, one lot clay, one lot Native American ceramics, one lot organic materials, one lot ochre, one lot bead, one lot discoidal, and one lot shell. The human remains and objects were collected from the site on at least five occasions from 1963 through 1990 by the University of Memphis as surface collections, burial recovery, and through excavations. These collections were transferred to the DeSoto County Museum between 2013-2015 and then to the MDAH in 2019. There was also a 1999 surface collection from a Mary E. Starr and a collection with unknown history.

No human remains are present; the remaining objects associated with human remains from 22DS504 (Harris) previously listed in a Notice of Inventory Completion published in the Federal Register on January 22, 2021 (FR 2021-01340) have been identified. The six lots of associated funerary objects consist of one lot Native American ceramics, one lot lithics, one lot shell, one lot clay, one lot ochre, and one lot faunal remains. This site has collections removed from the surface in 1983 and 1991 by the University of Memphis. Some objects were also donated to the C.H. Nash Museum at Chucalissa by an H. Osborn in 1983. The collections were transferred from the C.H. Nash Museum at Chucalissa to the DeSoto County Museum between 2012-2015 and then to MDAH in 2019.

No human remains are present; the remaining objects associated with human remains from 22DS500/504 (Walls/Harris) previously listed in a Notice of Inventory Completion published in the Federal Register on January 22, 2021 (FR 2021-01340) have been identified. The five lots of associated funerary objects consist of one lot ceramics, one lot shell, one lot lithics, one lot clay, and one lot faunal remains. The C.H. Nash Museum at Chucalissa received a surface collection from Memphis State University. Some objects were also donated to the C.H. Nash Museum at Chucalissa by collector H. Osborn in 1983. The collections were transferred from the C.H. Nash Museum at Chucalissa to the DeSoto County Museum between 2012-2015 and then to MDAH in 2019.

No human remains are present; the remaining objects associated with human remains from 22DS506 (McKay's Store) previously listed in a Notice of Inventory Completion published in the Federal Register on January 22, 2021 (FR 2021-01340) have been identified. The five lots of associated funerary objects consist of one lot Native American ceramics, one lot lithics, one lot clay, one lot faunal remains, and one lot shell. Some of these objects were collected as a surface collection in 1972 by the University of Memphis and a 1950s surface collection was given to the C.H. Nash Museum at Chucalissa in 1984. Both collections were transferred to the DeSoto County Museum between 2013-2015 and then to MDAH in 2019.

Human remains representing, at least, one individual have been identified from 22DS509 (Edgefield). The three lots of associated funerary objects consist of one lot lithics, one lot Native American ceramics, and one lot clay. The human remains and some of the objects are associated with the 2013 Mississippi Mound Trail excavations. Additional objects were excavated by the University of Memphis in 1962. The collection saw a series of transfers from the C.H. Nash Museum at Chucalissa to the DeSoto County Museum between 2013-2015 and then to the MDAH in 2019.

Human remains representing, at least, one individual have been identified from 22DS511 (Dogwood Ridge). The 10 lots of associated funerary objects consist of one lot lithics, one lot shell, one lot Native American ceramics, one lot clay, one lot ochre, one lot organic materials, one lot faunal remains, one lot discoidal, one lot wood, and one lot petrified wood. MDAH has collections from multiple excavations and surveys at 22DS511 spanning over 20 years. A surface collection was removed by the University of Memphis as part of the Tennessee Archaeological survey in 1972. Another surface collection took place when they revisited the site in 1998-1999. There is also a collection from a 1977 burial salvage excavation conducted by the Mississippi Department of Archives and History.

No human remains are present; the remaining objects associated with human remains from 22DS512 (Shannon Mound) previously listed in a Notice of Inventory Completion published in the Federal Register on January 22, 2021 (FR 2021-01340) have been identified. The five lots of associated funerary objects consist of one lot faunal remains, one lot Native American ceramics, one lot clay, one lot lithics, and one lot shell. A collection was removed from the surface of the site by Memphis State University in 1971 and transferred to the DeSoto County Museum in 2015 and then to MDAH in 2019.

Human remains representing, at least, one individual have been identified from 22DS513 (Norfolk). The six lots of associated funerary objects consist of one lot Native American ceramics, one lot petrified wood, one lot faunal remains, one lot lithics, one lot clay, and one lot organic materials. A collection removed from the surface of the site in 1989 by the University of Memphis. The collection was transferred from the DeSoto County Museum to MDAH in 2019.

Human remains representing, at least, 18 individuals have been identified from 22DS514 (Cheatham). The 12 lots of associated funerary objects consist of one lot clay, one lot effigy, one lot ceramics, one lot lithics, one lot faunal remains, one lot shell, one lot organic materials, one lot beads, one lot ochre, one lot wood, one lot earspool, and one lot discoidal. The human remains and objects were removed from the site by Memphis State University and C.H. Nash Museum at Chucalissa staff in 1971, 1972, 1991, and 1997. The Principal Investigator (PI) for the 1997 surface collection was Dr. David H. Dye. These collections were housed at the C.H. Nash Museum at Chucalissa and were then transferred to the DeSoto County Museum between 2013-2015. In 2019, the collection was transferred to MDAH.

Human remains representing, at least, nine individuals have been identified from 22DS516 (Irby). The 14 lots of associated funerary objects consist of one lot lithics, one lot clay, one lot faunal remains, one lot shell, one lot Native American ceramics, one lot organic materials, one lot discoidal, one lot petrified wood, one lot ochre, one lot finescreen, one lot effigy, one lot gorget, one lot samples, and one lot bead. The collection consists of human remains and objects removed from the site in 1966, 1967, and 1972 by staff from the Memphis State University and C.H. Nash Museum at Chucalissa as well as some objects removed prior to 1997, and some objects removed from the site at unknown point. These collections were all housed at the C.H. Nash Museum at Chucalissa until 2013-2015, when they were transferred to the DeSoto County Museum. In 2019, they were transferred to MDAH. Additional collections consisting of materials and human remains were removed from the site between 1989-1990 during a “Controlled Surface Collection” and some material removed from test excavations conducted in 1992 by M.E. Starr and Memphis State University (Lee Foster). Lastly, there is an unprovenienced “DAP” survey collection.

Human remains representing, at least, 14 individuals have been identified from 22DS517 (Woodlyn). The 14 lots of associated funerary objects consist of one lot lithics, one lot ceramics, one lot organic materials, one lot faunal remains, one lot shell, one lot clay, one lot wood, one lot petrified wood, one lot finescreen, one lot matrix, one lot effigy, one lot ochre, one lot beads, and one lot discoidal. Surveys were conducted by Memphis State University in 1972 and 1978 (J. Guyer). At some point the collections were given to the C.H. Nash Museum at Chucalissa. A systematic surface collection in 1989 under the direction of Alfred L. Foster (Memphis State University) was conducted at the site and both objects and human remains were collected and given to the C.H. Nash Museum at Chucalissa. Objects and human remains were removed from the site during two University of Memphis led field school seasons that took place in 1997 and 1998. These collections were brought to the C.H. Nash Museum at Chucalissa. These collections, as well as a collection with an unknown history, were all transferred from the C.H. Nash Museum at Chucalissa to the DeSoto County Museum between 2013-2015. However, some of the artifacts from the 1997 field excavation were accidentally sent to the Arkansas Archaeological survey from the C.H. Nash Museum at Chucalissa. However, once identified as coming from 222DS517, they were transferred to the DeSoto County Museum in 2019, and so they were able to be included in the 2019 transfer of all these collections to MDAH.

No human remains are present; the remaining objects associated with human remains from 22DS519 (Shannon #2) previously listed in a Notice of Inventory Completion published in the Federal Register on January 22, 2021 (FR 2021-01340) have been identified. The two lots of associated funerary objects consist of one lot Native American ceramics and one lot lithics. A collection removed by Memphis State University in 1971 was transferred to the DeSoto County Museum between 2013-2015 and then transferred to MDAH in 2019. MDAH also has a collection from 1985 with an unknown history.

Human remains representing, at least, two individuals have been identified from 22DS526 (Migva/Clifton Mound). The four lots of associated funerary objects consist of one lot Native American ceramics, one lot lithics, one lot faunal remains, and one lot clay. The site was excavated in 1973 and 1980 by the University of Memphis. These included a surface collection and an excavation from a mound at the site. These objects were transferred to the DeSoto County Museum between 2013-2015 from the C.H. Nash Museum at Chucalissa, and then to MDAH in 2019. Included in the transfer was a donation given to the C.H. Nash Museum at Chucalissa from the site with an unknown provenience.

Human remains representing, at least, one individual have been identified from 22DE526/527 (22DS526/527). The three lots of associated funerary objects consist of one lot lithics, one lot Native American ceramics, and one lot faunal remains. The human remains and objects from 22DE526/527 (22DS526/527) were collected by a Keith Rennick in 1973 either as an individual or with the University of Memphis.

Human remains representing, at least, one individual have been identified from 22DS630 (Sandpit). The five lots of associated funerary objects consist of one lot lithics, one lot Native American ceramics, one lot faunal remains, one lot clay, and one lot matrix. The site has a collection with an unknown history and an additional collection likely collected by Jay Mitchell.

Human remains representing, at least, one individual have been identified from 22DS711 (C-1150-1). The five lots of associated funerary objects consist of one lot faunal remains, one lot Native American ceramics, one lot lithics, one lot clay, and one lot shell. The collection has an unknown history.

No human remains are present; the remaining objects associated with human remains from 22DS00D, a site associated with 22DS500 (Walls), previously listed in a Notice of Inventory Completion published in the Federal Register on January 22, 2021 and on July 14, 2022 (FR 2021-01340 & FR 2022-15041) have been identified. The one lot of objects consist of lithics. This unprovenienced collection was from Howard Mize.

No human remains are present; the remaining objects associated with human remains from 22DS000/D1979.07.01 (Harris Property) previously listed in a Notice of Inventory Completion published in the Federal Register on January 22, 2021 (FR 2021-01340) have been identified. The four lots of associated funerary objects consist of one lot ceramics, one lot clay, one lot lithics, and one lot petrified wood. A collector, Lou White, donated a surface collection to the C.H. Nash Museum at Chucalissa in 1979. The C.H. Nash Museum at Chucalissa also received a surface collection from Memphis State University. These collections were transferred from the C.H. Nash Museum at Chucalissa to the DeSoto County Museum between 2012-2015. The collections were then transferred from the DeSoto County Museum to MDAH in 2019.

No human remains are present; the remaining objects associated with human remains from MAGS Lot #26 (Old River Bank at Walls) in DeSoto County previously listed in a Notice of Inventory Completion published in the Federal Register on March 29, 2023 (FR 2023-06475) have been identified. The four lots of associated funerary objects consist of one lot ceramics, one lot lithics, one lot faunal remains, and one lot shell. This collection was transferred from the C.H. Nash Museum at Chucalissa to the DeSoto County Museum between 2012-2015. The collection was then transferred from the DeSoto County Museum to the MDAH in 2019.

Through Tribal consultation, these 66 individuals and 127 lots of associated funerary objects were identified as culturally affiliated with The Chickasaw Nation. To our knowledge, no potentially hazardous substances were used to treat any of the human remains or associated funerary objects.

Cultural Affiliation

Based on the information available and the results of consultation, cultural affiliation is clearly identified by the information available about the human remains and associated funerary objects described in this notice.

Determinations

The Mississippi Department of Archives and History has determined that:

• The human remains described in this notice represent the physical remains of 66 individuals of Native American ancestry.

• The 127 lots of objects described in this notice are reasonably believed to have been placed intentionally with or near individual human remains at the time of death or later as part of the death rite or ceremony.

• There is a connection between the human remains and associated funerary objects described in this notice and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Mississippi Department of Archives and History must determine the most appropriate requestor prior to repatriation. Requests for joint repatriation of the human remains and associated funerary objects are considered a single request and not competing requests. The Mississippi Department of Archives and History is responsible for sending a copy of this notice to the Indian Tribes and Native Hawaiian organizations identified in this notice and any other consulting parties.

Authority: Native American Graves Protection and Repatriation Act, 25 U.S.C. 3003, and the implementing regulations, 43 CFR 10.10.

Dated: December 16, 2025.
Melanie O'Brien,
Manager, National NAGPRA Program.

[FR Doc. 2025-23388 Filed 12-18-25; 8:45 am]

BILLING CODE 4312-52-P